DEPARTMENT OF COMMERCE

National Oceanic and Atmospheric Administration

RIN 0648-XG465

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Spiny Dogfish Committee will hold a meeting.

DATES: The meeting will be held on Friday September 21, 2018, from 10 a.m. to 1 p.m. For agenda details, see SUPPLEMENTARY INFORMATION.

ADDRESSES: The meeting will be held via webinar with a telephone-only audio connection to participate: http://mafmc.adobeconnect.com/dogcom/. Telephone instructions are provided upon connecting, or call direct: 800-832-0736, Rm: *7833942#.

Council address: Mid-Atlantic Fishery Management Council, 800 N State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The primary purpose of the meeting is to develop recommendations for spiny dogfish specifications for the 2019-21 fishing years. The Committee may also develop recommendations for management measures, including trip limits.

Special Accommodations

The meeting is physically accessible to people with disabilities. Requests for sign language interpretation or other auxiliary aid should be directed to M. Jan Saunders, (302) 526-5251, at least 5 days prior to any meeting date.

Dated: September 4, 2018.
Tracey L. Thompson,
Acting Deputy Director, Office of Sustainable Fisheries, National Marine Fisheries Service.

[FR Doc. 2018-19479 Filed 9-7-18; 8:45 am]

BILLING CODE 3510-22-P